Title 3—

The President

Executive Order 13320 of December 9, 2003

Closing of Executive Departments and Agencies of the

Federal Government on Friday, December 26, 2003

By the authority vested in me as President by the Constitution and the laws of the United States of America, it is hereby ordered as follows:

Section 1. All executive branch departments and agencies of the Federal Government shall be closed and their employees excused from duty on Friday, December 26, 2003, the day after Christmas Day, except as provided in section 2 below.

Sec. 2. The heads of executive branch departments and agencies may determine that certain offices and installations of their organizations, or parts thereof, must remain open and that certain employees must report for duty on December 26, 2003, for reasons of national security or defense or other public need.

Sec. 3. Friday, December 26, 2003, shall be considered as falling within the scope of Executive Order 11582 of February 11, 1971, and of 5 U.S.C. 5546 and 6103(b) and other similar statutes insofar as they relate to the pay and leave of employees of the United States.

B

THE WHITE HOUSE,

December 9, 2003.

[FR Doc. 03-30913

Filed 12-11-03; 8:45 am]

Billing code 3195-01-P